DEPARTMENT OF AGRICULTURE

Agricultural Marketing Service

[Document Number AMS-SC-21-0079]

Meeting of the Fruit and Vegetable Industry Advisory Committee

AGENCY: Agricultural Marketing Service, USDA.

ACTION: Notice of public meeting.

SUMMARY: In accordance with the Federal Advisory Committee Act, as amended, the Agricultural Marketing Service (AMS), U.S. Department of Agriculture (USDA), is announcing a meeting of the Fruit and Vegetable Industry Advisory Committee (FVIAC). The meeting is being convened to examine the full spectrum of fruit and vegetable industry issues and provide recommendations and ideas to the Secretary of Agriculture on how the U.S. Department of Agriculture (USDA) can tailor programs and services to better meet the needs of the U.S. produce industry.

DATES: The FVIAC will meet via webinar (virtually) on November 03, 2021, from 10:00 a.m. to 3:00 p.m. Eastern Time (ET) and November 04, 2021, from 10:00 a.m. to 3:00 p.m. Eastern Time (ET). The FVIAC will hear public comments during the webinar on November 03, 2021. The deadline to submit written comments and/or sign up for oral comments is 11:59 p.m. ET, on October 22, 2021.

ADDRESSES: The webinar for the meeting and public comment period can be accessed via the internet and/or phone. Access information will be available on the AMS website prior to each event. Detailed information can be found at https://www.ams.usda.gov/about-ams/facas-advisory-councils/fviac.

FOR FURTHER INFORMATION CONTACT: Darrell Hughes, Designated Federal Officer, Fruit and Vegetable Industry Advisory Committee, USDA-AMS-Specialty Crops Program, 1400 Independence Avenue SW, Suite 1575, STOP 0235, Washington, DC 20250-0235; Telephone: (202) 378-2576; Email: SCPFVIAC@usda.gov.

SUPPLEMENTARY INFORMATION: Pursuant to the Federal Advisory Committee Act (FACA) (5 U.S.C. App. 2), the Secretary of Agriculture (Secretary) established the Committee in 2001 to examine the full spectrum of issues faced by the fruit and vegetable industry and to provide suggestions and ideas to the Secretary on how USDA can tailor its programs to meet the fruit and vegetable industry's needs.

The AMS Deputy Administrator for the Specialty Crops Program serves as the Committee's Executive Secretary, leading the effort to administer the Committee's activities. Representatives from USDA mission areas and other government agencies affecting the fruit and vegetable industry are periodically called upon to participate in Committee's meetings as determined by the Committee. AMS is giving notice of the Committee meeting to the public so that they may participate and present their views. The meeting is open to the public.

Agenda items may include, but are not limited to, welcome and introductions; administrative matters; consideration of recommendations pertaining to labor and production, food safety, climate and infrastructure, and conservation; and presentations by subject matter experts as requested by the Committee. Please check the FVIAC website for an agenda 24-to-48 hours prior to November 03, 2021 via https://www.ams.usda.gov/about-ams/facas-advisory-councils/fviac.

Public Comments: Comments should address specific topics pertaining to fruit and vegetable industry issues and USDA programs and services.

Written Comments: Written public comments will be accepted on or before 11:59 p.m. ET on October 22, 2021 via http://www.regulations.gov: Document # AMS-SC-21-0079. Comments submitted after this date will be provided to AMS, but the Committee may not have adequate time to consider those comments prior to the meeting. AMS, Specialty Crops Program, strongly prefers that comments be submitted electronically. However, written comments may also be submitted (i.e., postmarked) via mail to the person listed in the FOR FURTHER INFORMATION CONTACT section by or before the deadline.

Oral Comments: The Committee is providing the public an opportunity to provide oral comments and will accommodate as many individuals and organizations as time permits. Persons or organizations wishing to make oral comments must pre-register by 11:59 p.m. ET, October 22, 2021 and may register for only one speaking slot. Instructions for registering and participating in the meeting can be obtained by contacting the person listed in the FOR FURTHER INFORMATION CONTACT section by or before the deadline.

Meeting Accommodations: If you are a person requiring reasonable accommodation, please make requests in advance for sign language interpretation, assistive listening devices, or other reasonable accommodation, to the person listed under the FOR FURTHER INFORMATION CONTACT section. Determinations for reasonable accommodation will be made on a case-by-case basis.

Dated: September 29, 2021.
Cikena Reid,
USDA Committee Management Officer.

[FR Doc. 2021-21526 Filed 10-1-21; 8:45 am]

BILLING CODE P